FEDERAL ELECTION COMMISSION

Sunshine Act Meeting Notice

AGENCY: Federal Election Commission.

DATE AND TIME: Thursday, April 26, 2012 at 10 a.m.

PLACE: 999 E Street NW., Washington, DC (Ninth Floor).

STATUS: This meeting will be open to the public.

ITEMS TO BE DISCUSSED:

Correction and Approval of the Minutes for the Meeting of April 12, 2012

Draft Advisory Opinion 2012-07: Feinstein for Senate

Draft Advisory Opinion 2012-08: Repledge

Draft Advisory Opinion 2012-09: Points for Politics, LLC

Draft Advisory Opinion 2012-10: Greenberg Quinlan Rosner Research, Inc.

Draft Advisory Opinion 2012-11: Free Speech

Draft Advisory Opinion 2012-12: Dunkin' Brands, Inc.

Draft Advisory Opinion 2012-13: Physicians Hospitals of America

Draft Advisory Opinion 2012-14: Shaun McCutcheon

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2012-9861 Filed 4-20-12; 11:15 am]

BILLING CODE 6715-01-P